DEPARTMENT OF TRANSPORTATION

Federal Aviation Administration

14 CFR Part 39

[Docket No. FAA-2010-0678; Directorate Identifier 2010-NM-020-AD]

RIN 2120-AA64

Airworthiness Directives; The Boeing Company Model 777-200 and -300 Series Airplanes

AGENCY: Federal Aviation Administration (FAA), DOT.

ACTION: Notice of proposed rulemaking (NPRM).

SUMMARY: We propose to adopt a new airworthiness directive (AD) for certain Model 777-200 and -300 series airplanes. This proposed AD would require installing new operational software in the cabin management system, and loading new software into the mass memory card. This proposed AD results from an in-flight entertainment (IFE) systems review. We are proposing this AD to ensure that the flightcrew is able to turn off electrical power to the IFE system and other non-essential electrical systems through a switch in the flight compartment in the event of smoke or flames. In the event of smoke or flames in the airplane flight deck or passenger cabin, the flightcrew's inability to turn off electrical power to the IFE system and other non-essential electrical systems could result in the inability to control smoke or flames in the airplane flight deck or passenger cabin during a non-normal or emergency situation.

DATES: We must receive comments on this proposed AD by August 23, 2010.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Joe Salameh, Aerospace Engineer, Systems and Equipment Branch, ANM-130S, FAA, Seattle Aircraft Certification Office, 1601 Lind Avenue, SW., Renton, Washington 98057-3356; telephone (425) 917-6454; fax (425) 917-6590.

SUPPLEMENTARY INFORMATION:

Comments Invited

We invite you to send any written relevant data, views, or arguments about this proposed AD. Send your comments to an address listed under the ADDRESSES section. Include “Docket No. FAA-2010-0678; Directorate Identifier 2010-NM-020-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

In response to numerous reports of smoke or flames in the passenger cabin of various models of transport category airplanes, we conducted a comprehensive in-flight entertainment (IFE) systems review. Earlier investigation of the reports had revealed that the source of the smoke and flames was from cabin IFE system components, including electronic seat boxes mounted under passenger seats, IFR wirings, IFE monitors, cabin lighting, wall outlets, and other non-essential cabin electrical systems.

The systems review disclosed that in order to minimize the risk of smoke or flames in the passenger cabin, a switch is needed in the flight compartment to enable the flightcrew to turn off electrical power to the IFE system and other non-essential electrical systems. In the event of smoke or flames in the airplane flight deck or passenger cabin, the flightcrew's inability to turn off power to the IFE system and other non-essential electrical systems, if not corrected, could result in the inability to control smoke or flames in the airplane flight deck or passenger cabin during a non-normal or emergency situation.

Relevant Service Information

We have reviewed Boeing Service Bulletin 777-23-0175, Revision 2, dated October 12, 2006. The service bulletin describes procedures for installing new operational software in the cabin management system as follows:

• At the cabin system control panel (CSCP), remove the installed mass memory card (MMC) 285W0925-1 or 285W0925-2.

• Install the new MMC 285W0925-3.

• Install a new cabin system management unit (CSMU) software part number 2313-BCE-01T-03.

• Install a new cabin area control panel (CACP) software part number 2313-BCE-01U-02.

• Install a new zone management unit (ZMU) software part number 2374-BCE-021-02.

• Install a new overhead electronics unit (OEU) operational software (OPS) (12 port) part number 2310-BCE-01V-02, if the airplane configuration has OEU hardware 285W0029-5 installed.

• Install a new configuration database (CDB).

• Install the new CDB to the cabin service system.

Boeing Service Bulletin 777-23-0175, Revision 2, dated October 12, 2006, specifies prior or concurrent accomplishment of Boeing Component Service Bulletin 285W0925-23-02, dated July 11, 2002, which describes procedures for loading the new cabin services system central storage device software and CSCP OPS into the MMC.

FAA's Determination and Requirements of This Proposed AD

We are proposing this AD because we evaluated all relevant information and determined the unsafe condition described previously is likely to exist or develop in other products of these same type designs. This proposed AD would require accomplishing the actions specified in the service information described previously.

Costs of Compliance

We estimate that this proposed AD would affect 59 airplanes of U.S. registry. The following table provides the estimated costs for U.S. operators to comply with this proposed AD.

Table—Estimated Costs
Action | Work hours | Average labor rate per hour | Parts | Cost per product | Number of U.S.-registered airplanes | Fleet cost
Modification—New software in the cabin management system | 4 | $85 | $0 | $340 | 59 | $20,060
Concurrent modification—New software in the mass memory card | 1 | 85 | 0 | 85 | 59 | 5,015

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

The Boeing Company: Docket No. FAA-2010-0678; Directorate Identifier 2010-NM-020-AD.

Comments Due Date

(a) We must receive comments by August 23, 2010.

Affected ADs

(b) None.

Applicability

(c) This AD applies to The Boeing Company Model 777-200 and -300 series airplanes, certificated in any category; as identified in Boeing Service Bulletin 777-23-0175, Revision 2, dated October 12, 2006.

Subject

(d) Air Transport Association (ATA) of America Code 23: Communications.

Unsafe Condition

(e) This AD results from an in-flight entertainment (IFE) systems review. We are proposing this AD to minimize the risk of smoke or flames in the passenger cabin by installing a switch in the flight compartment to enable the flightcrew to turn off electrical power to the IFE system and other non-essential electrical systems. In the event of smoke or flames in the airplane flight deck or passenger cabin, the flightcrew's inability to turn off electrical power to the IFE system and other non-essential electrical systems could result in the inability to control smoke or flames in the airplane flight deck or passenger cabin during a non-normal or emergency situation.

Compliance

(f) You are responsible for having the actions required by this AD performed within the compliance times specified, unless the actions have already been done.

Modification

(g) Within 60 months after the effective date of this AD: Replace the mass memory card (MMC) with a new MMC; install new cabin system management unit (CSMU) software, cabin area control panel (CACP) software, and new zone management unit (ZMU) software; install new overhead electronics unit (OEU) operational program software, if applicable; install a new configuration database (CDB); and install the new CDB to the cabin service system; in accordance with the Accomplishment Instructions of Boeing Service Bulletin 777-23-0175, Revision 2, dated October 12, 2006.

Concurrent Requirement

(h) Prior to or concurrently with accomplishing the requirements of paragraph (g) of this AD, load the new cabin services system central storage device software and cabin system control panel operational software into the MMC, in accordance with Boeing Component Service Bulletin 285W0925-23-02, dated July 11, 2002.

Alternative Methods of Compliance (AMOCs)

(i)(1) The Manager, Seattle Aircraft Certification Office (ACO), FAA, has the authority to approve AMOCs for this AD, if requested using the procedures found in 14 CFR 39.19. Send information to ATTN: Joe Salameh, Aerospace Engineer, Systems and Equipment Branch, ANM-130S, FAA, Seattle Aircraft Certification Office, 1601 Lind Avenue, SW., Renton, Washington 98057-3356; telephone (425) 917-6454; fax (425) 917-6590. Information may be e-mailed to: 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Issued in Renton, Washington, on June 29, 2010.
Ali Bahrami,
Manager, Transport Airplane Directorate, Aircraft Certification Service.

[FR Doc. 2010-16517 Filed 7-6-10; 8:45 am]

BILLING CODE 4910-13-P